DEPARTMENT OF HOMELAND SECURITY

Federal Emergency Management Agency

44 CFR Part 65

[Docket No. FEMA-P-7630]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas:
Washington (Case No. 03-06-1948P) | Unincorporated Areas | October 7, 2003, October 14, 2003, Northwest Arkansas Times | The Honorable Jerry Hunton, Judge, Washington County, 280 North College Avenue, Suite 500, Fayetteville, AR 72701 | Jan. 13, 2004 | 050212
Washington (Case No. 03-06-1948P) | City of Fayetteville | October 7, 2003, October 14, 2003, Northwest Arkansas Times | The Honorable Dan Coody, Mayor, City of Fayetteville, 113 West Mountain Street, Fayetteville, AR 72701 | Jan. 13, 2004 | 050216
Illinois: Kendall (Case No. 03-05-0545P) | Village of Oswego | October 23, 2003, October 30, 2003, The Ledger-Sentinel | Mr. Craig Weber, President, Village of Oswego, 113 Main Street, Oswego, IL 60543 | Oct. 6, 2003 | 170345
Indiana:
Lake (Case No. 03-05-5175P) | Town of Griffith | October 23, 2003, October 30, 2003, The Times | The Honorable Stanley Dobosz, Town Council President, Town of Griffith, 111 North Broad Street, Griffith, IN 46319 | Jan. 29, 2004 | 185175
Lake (Case No. 03-05-5174P) | Town of Highland | October 23, 2003, October 30, 2003, The Times | The Honorable Mark Herak, Town Council President, Town of Highland, 3333 Ridge Road, Highland, IN 46322 | Jan. 29, 2004 | 185176
Lake (Case No. 03-05-3366P) | Unincorporated Areas | October 23, 2003, October 30, 2003, The Times | The Honorable Gerry J. Scheub, President, Lake County Board of Commissioners, 2293 North Main Street, 3rd Floor, Building A, Crown Point, IN 46307 | Jan. 29, 2004 | 180126
Louisiana: East Baton Rouge Parish (Case No. 03-06-827P) | City of Zachary | October 16, 2003, October 23, 2003, The Zachary Plainsman | The Honorable Charlene Smith, Mayor, City of Zachary, 4700 Main Street, Zachary, LA 70791 | Sept. 30, 2003 | 220061
Michigan: Macomb (Case No. 03-05-3367P) | City of Fraser | October 31, 2003, November 7, 2003, The Macomb Daily | The Honorable Edmund T. Adamczyk, Mayor, City of Fraser, City Hall, 33000 Garfield Road, Fraser, MI 48026 | Oct. 17, 2003 | 260122
Minnesota: Carver (Case No. 02-05-0831P) | Unincorporated Areas | October 23, 2003, October 30, 2003, The Waconia Patriot | Mr. David Hemze, Acting Administrator, Carver County, Carver County Courthouse, 600 East Fourth Street, Chaska, MN 55318 | Jan. 29, 2004 | 270049
Missouri: St. Louis (Case No. 03-07-894P) | Unincorporated Areas | October 22, 2003, October 29, 2003, St Louis Post Dispatch | Mr. Buzz Westfall, St. Louis County Executive, 41 South Central Avenue, St. Louis, MO 63105 | Jan. 28, 2004 | 290327
New Mexico:
Bernalillo (Case No. 03-06-1734P) | City of Albuquerque | October 23, 2003, October 30, 2003, Albuquerque Journal | The Honorable Martin Chavez, Mayor, City of Albuquerque, P.O. Box 1293, Albuquerque, NM 87103 | Oct. 9, 2003 | 350002
Bernalillo (Case No. 03-06-2528P) | Unincorporated Areas | September 30, 2003, October 7, 2003, Albuquerque Journal | Mr. Tom Rutherford, Chairperson, Bernalillo County, One Civic Plaza, N.W., Albuquerque, NM 87102 | Jan. 6, 2004 | 350001
Ohio: Lorain (Case No. 02-05-3235P) | City of Avon Lake | October 9, 2003, October 16, 2003, The Sun | The Honorable Robert Berner, Mayor, City of Avon Lake, 150 Avon Belden Road, Avon Lake, OH 44012 | Sept. 24, 2003 | 390602
Oklahoma:
Tulsa (Case No. 03-06-1541P) | City of Tulsa | October 17, 2003, October 24, 2003, Tulsa World | The Honorable Bill LaFortune, Mayor, City of Tulsa, City Hall, 200 Civic Center, Tulsa, OK 74103 | Oct. 1, 2003 | 405381
Tulsa (Case No. 03-06-1945P) | City of Tulsa | October 24, 2003, October 31, 2003, Tulsa World | The Honorable Bill LaFortune, Mayor, City of Tulsa, City Hall, 200 Civic Center, Tulsa, OK 74103 | Oct. 9, 2003 | 405381
Texas:
Johnson (Case No. 03-06-060P) | City of Burleson | October 22, 2003, October 29, 2003, The Burleson Star | The Honorable Byron Black, Mayor, City of Burleson, 141 West Renfro, Burleson, TX 76028 | Jan. 28, 2004 | 485459
Dallas (Case No. 03-06-435P) | City of Carrollton | October 24, 2003, October 31, 2003, Northwest Morning News | The Honorable Mark Stokes, Mayor, City of Carrollton, 1945 E. Jackson Road, Carrollton, TX 75006 | Oct. 7, 2003 | 480167
Dallas (Case No. 02-06-2440P) | City of Cedar Hill | October 17, 2003, October 24, 2003, Dallas Morning News | The Honorable Robert Franke, Mayor, City of Cedar Hill, P.O. Box 96, Cedar Hill, TX 75106 | Jan. 23, 2004 | 480168
Denton (Case No. 03-06-1926P) | Town of Flower Mound | October 29, 2003, November 5, 2003, Flower Mound Leader | The Honorable Lori DeLuca, Mayor, Town of Flower Mound, 2121 Cross Timbers Road, Flower Mound, TX 75028 | Oct. 15, 2003 | 480777
Tarrant (Case No. 02-06-2311P) | City of Fort Worth | October 21, 2003, October 28, 2003 The Star Telegram | The Honorable Michael J. Moncrief, Mayor, City of Fort Worth, 1000 Throckmorton Street, Fort Worth, TX 76102-6311 | Oct. 9, 2003 | 480596
Tarrant (Case No. 03-06-1376P) | City of Fort Worth | October 22, 2003, October 29, 2003, The Star Telegram | The Honorable Michael J. Moncrief, Mayor, City of Fort Worth, 1000 Throckmorton Street, Fort Worth, TX 76102-6311 | Oct. 7, 2003 | 480596
Denton (Case No. 03-06-435P) | City of Hebron | October 22, 2003, October 29, 2003, The Carrollton Leader | The Honorable Kelly Clem, Mayor, Town of Hebron, 4216 Charles Street, Carrollton, TX 75010 | Oct. 7, 2003 | 481495
Tarrant (Case No. 03-06-444P) | City of North Richland Hills | October 22, 2003, October 29, 2003 The North East Tarrant County Morning News | The Honorable T. Oscar Trevino, Jr., Mayor, City of North Richland Hills, 7301 North East Loop 820, North Richland Hills, TX 76180 | Oct. 7, 2003 | 480607
Collin (Case No. 03-06-407P) | City of Plano | October 29, 2003, November 5, 2003 Plano Star Courier | The Honorable Pat Evans, Mayor, City of Plano, P.O. Box 860358, Plano, TX 75086-0358 | Feb. 4, 2004 | 480140
Hays (Case No. 02-06-1681P) | City of San Marcos | October 17, 2003, October 24, 2003, San Marcos Daily Record | The Honorable Robert Habingreither, Mayor, City of San Marcos, 630 East Hopkins, San Marcos, TX 78666 | Sept. 30, 2003 | 485505

(Catalog of Federal Domestic Assistance No. 83.100, “Flood Insurance”)
Dated: December 9, 2003.
Anthony S. Lowe,
Mitigation Division Director, Emergency Preparedness and Response Directorate.

[FR Doc. 03-30991 Filed 12-15-03; 8:45 am]

BILLING CODE 6718-04-P